DEPARTMENT OF COMMERCE

International Trade Administration

[A-580-839]

Certain Polyester Staple Fiber From the Republic of Korea: Extension of Time Limit for the Preliminary Results of the 2007-2008 Antidumping Duty Administrative Review

AGENCY: Import Administration, International Trade Administration, Department of Commerce.

EFFECTIVE DATE: January 31, 2009.

FOR FURTHER INFORMATION CONTACT: Andrew McAllister or Brandon Farlander, AD/CVD Operations, Office 1, Import Administration, International Trade Administration, U.S. Department of Commerce, 14th Street and Constitution Avenue, NW, Washington, DC 20230, telephone (202) 482-1174 and (202) 482-0182, respectively.

SUPPLEMENTARY INFORMATION:

Background

On July 1, 2008, the Department published a notice of initiation of an administrative review of the antidumping duty order on certain polyester staple fiber from the Republic of Korea, covering the period May 1, 2007, through April 30, 2008. See Initiation of Antidumping and Countervailing Duty Administrative Reviews and Requests for Revocation in Part, 73 FR 37409 (July 1, 2008). The preliminary results for this review are currently due no later than January 31, 2009.

Extension of Time Limits for Preliminary Results

Section 751(a)(3)(A) of the Tariff Act of 1930, as amended (“the Act”), requires the Department of Commerce (“Department”) to issue the preliminary results of an administrative review within 245 days after the last day of the anniversary month of an order for which a review is requested and the final results within 120 days after the date on which the preliminary results are published. If it is not practicable to complete the review within the time period, section 751(a)(3)(A) of the Act allows the Department to extend these deadlines to a maximum of 365 days and 180 days, respectively.

The Department requires additional time to review and analyze the respondent's sales and cost information and to issue supplemental questionnaires. Thus, it is not practicable to complete this review within the previously established time limit (i.e., by January 31, 2009). Therefore, the Department is extending the time limit for completion of these preliminary results by 120 days to no later than May 31, 2009, in accordance with section 751(a)(3)(A) of the Act. As May 31, 2009 falls on a Sunday, our preliminary results will be issued no later than June 1, 2009, the next business day. The final results continue to be due 120 days after the publication of the preliminary results.

We are issuing and publishing this notice in accordance with sections 751(a)(3)(A) and 777(i)(1) of the Act.

Dated: January 27, 2009.
John M. Andersen,
Acting Deputy Assistant Secretary for Antidumping and Countervailing Duty Operations.

[FR Doc. E9-2240 Filed 2-3-09; 8:45 am]

BILLING CODE 3510-DS-S